DEPARTMENT OF ENERGY

Federal Energy Regulatory Commission

[Project No. 2266-102]

Notice of Reasonable Period of Time for Water Quality Certification Application; Nevada Irrigation District

On September 25, 2024, the California State Water Resources Control Board (California SWRCB) submitted to the Federal Energy Regulatory Commission (Commission) notice that it received a request for a Clean Water Act section 401(a)(1) water quality certification as defined in 40 CFR 121.5, from Nevada Irrigation District, in conjunction with the above captioned project, on August 29, 2024. Pursuant to section 4.34(b)(5) of the Commission's regulations,¹ we hereby notify California SWRCB of the following:

¹ 18 CFR 4.34(b)(5).

Date of Receipt of the Certification Request: August 29, 2024

Reasonable Period of Time to Act on the Certification Request: One year, August 29, 2025.

If California SWRCB fails or refuses to act on the water quality certification request on or before the above date, then the certifying authority is deemed waived pursuant to section 401(a)(1) of the Clean Water Act, 33 U.S.C. 1341(a)(1).

Dated: September 26, 2024.
Debbie-Anne A. Reese,
Acting Secretary.

[FR Doc. 2024-22753 Filed 10-2-24; 8:45 am]

BILLING CODE 6717-01-P